DEPARTMENT OF THE INTERIOR

Fish and Wildlife Service

Endangered and Threatened Species Permit Applications.

AGENCY: Fish and Wildlife Service, Interior.

ACTION: Notice of receipt of applications.

SUMMARY: The following applicants have applied for permits to conduct certain activities with endangered species. This notice is provided pursuant to section 10(c) of the Endangered Species Act of 1973, as amended (16 U.S.C. 1531, et seq.).

DATES: Written data or comments should be submitted to the Regional Director, U.S. Fish and Wildlife Service, Ecological Services, 1 Federal Drive, Fort Snelling, Minnesota 55111-4056, and must be received on or before July 16, 2004.

FOR FURTHER INFORMATION CONTACT: Mr. Peter Fasbender, (612) 713-5343.

SUPPLEMENTARY INFORMATION:

Permit Number: TE087769

Applicant: Michigan Department of Natural Resources, Lansing, Michigan.

The applicant requests a permit to take the Karner blue butterfly (Lycaeides melissa samuelis) in Michigan. The scientific research is aimed at enhancement of survival of the species in the wild.

Permit Number: TE087770

Applicant: Kimberly Livengood, University of Missouri, Columbia, Missouri.

The applicant requests a permit to take the Indiana bat (Myotis sodalis) and gray bat (M. grisecen) throughout Iowa and Missouri. The scientific research is aimed at enhancement of survival of the species in the wild.

Permit Number: TE087771

Applicant: Jeremy Fant, Chicago Botanic Garden, Illinois.

The applicant requests a permit to take Pitcher's thistle (Cirsium pitcherii) in Indiana and Michigan. The scientific research is aimed at enhancement of survival of the species in the wild.

Permit Number: TE071086

Applicant: John Chenger, Bat Conservation and Management, Carlisle, Pennsylvania.

The applicant requests a permit amendment to take the Indiana bat (Myotis sodalis) in Indiana and Ohio. The scientific research is aimed at enhancement of survival of the species in the wild.

Permit Number: TE088720

Applicant: George T. Watters, Ohio State University, Columbus, Ohio.

The applicant requests a permit to take (collect and hold) all endangered mussel species throughout the Ohio River system in eastern and central United States. Activities are proposed for studies to identify host species, propagation, and release into the wild. The scientific research is aimed at enhancement of survival of the species in the wild.

Dated: May 27, 2004.
Dan Sobieck,
Acting Assistant Regional Director, Ecological Services, Region 3, Fort Snelling, Minnesota.

[FR Doc. 04-13496 Filed 6-15-04; 8:45 am]

BILLING CODE 4310-55-P